DEPARTMENT OF HEALTH AND HUMAN SERVICES

National Institutes of Health

Center for Scientific Review; Amended Notice of Meeting

Notice is hereby given of a change in the meeting of the Genetic Variation and Evolution Study Section, February 15, 2024, 10:00 a.m. to February 16, 2024, 08:30 p.m., National Institutes of Health, Rockledge II, 6701 Rockledge Drive, Bethesda, MD 20892 which was published in the Federal Register on January 24, 2024, 89 FR 4610, Doc 2024-01290.

The GVE meeting is being amended to change the SRO from Guoqin Yu, Ph.D., to Linda Jurata, Center for Scientific Review, National Institutes of Health, 6701 Rockledge Drive, Bethesda, MD 20892, linda.jurata@nih.gov (301) 496-8032. The meeting is closed to the public.

Dated: January 29, 2024.
Lauren A. Fleck,
Program Analyst, Office of Federal Advisory Committee Policy.

[FR Doc. 2024-02044 Filed 2-1-24; 8:45 am]

BILLING CODE 4140-01-P